DEPARTMENT OF THE INTERIOR

Bureau of Land Management

[ID-300-1020-PH; DDG080003]

Notice of Public Meeting, Idaho Falls District Resource Advisory Council Meeting

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Idaho Falls District Resource Advisory Council (RAC), will meet as indicated below.

DATES: The RAC will next meet in Malad, Idaho on June 4, 2008 and in Preston, Idaho June 5, 2008. The meeting will being at the BLM/FS Malad Office 195 South 300 East, Malad, Idaho at 10 a.m. on June 4th for a short introduction (one hour) to the field trip. After which, the RAC will travel to the Holbrook area to talk about fire and fire rehabilitation. On June 5, 2008, the RAC will be traveling to the Onieda Narrows area in the morning to talk about recreation issues. Other topics will be scheduled as appropriate. All meetings are open to the public.

SUPPLEMENTARY INFORMATION: The 15-member Council advises the Secretary of the Interior, through the Bureau of Land Management, on a variety of planning and management issues associated with public land management in the BLM Idaho Falls District (IFD), which covers eastern Idaho.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

FOR FURTHER INFORMATION CONTACT: Joanna Wilson, RAC Coordinator, Idaho Falls District, 1405 Hollipark Dr., Idaho Falls, ID 83401. Telephone: (208) 524-7550. E-mail: Joanna_Wilson@blm.gov.

Dated: April 11, 2008.
Joanna Wilson,
RAC Coordinator, Public Affairs Specialist.

[FR Doc. E8-8403 Filed 4-21-08; 8:45 am]

BILLING CODE 4310-GG-P